DEPARTMENT OF HOUSING AND URBAN DEVELOPMENT

[Docket No. FR-5044-N-19]

Notice of Proposed Information Collection for Public Comment; MTCS Family Reporting

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: December 11, 2006.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000;

FOR FURTHER INFORMATION CONTACT: Aneita Waites, (202) 708-0713, extension 4114, for copies of the proposed forms and other available documents. (This is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Family Report, MTW Family Report.

OMB Control Number: 2577-0083.

Description of the need for the information and proposed use: Collection of this information is authorized by the U.S. Housing Act of 1937 (42 U.S.C. 1437, et seq.), Title VI of the Civil Rights Act of 1964 (42 U.S.C. 2000d), the Fair Housing Act (42 U.S.C. 3601-19), section 214 of the Housing and Community Development Act of 1980, and section 206 of the 1996 HUD Appropriations Act. The information collected through the Form HUD-50058 and the Form HUD-50058 MTW will be used to monitor and evaluate Office of Public and Indian Housing programs including the public housing, Section 8 Housing Choice Voucher, Section 8 Project Based Certificates and Vouchers, Section 8 Moderate Rehabilitation and Moving to Work (MTW) Demonstration programs.

Agency form number, if applicable: Form HUD-50058, Form HUD-50058 MTW.

Members of affected public: Public Housing Agencies, State and local governments, individuals and households.

Estimation of the total number of hours needed to prepare the information collection including number of respondents, frequency of response, and hours of response: Public housing agencies will need an average input time of 15 minutes per form. Public housing agencies that administer the Family Self Sufficiency (FSS) program will require an additional 15 minutes per form for completion of the information.

Estimated Burden of Hours of the Proposed Information Collection
Information Collection | Number of respondents | Responses per respondent | Total annual responses | Minutes per response | Total hours | Regulatory reference
HUD-50058 | 4,500 | 1,000 | 4,500,000 | 15 | 1,125,000 | 908.101, 960, 982, 984
HUD-50058 MTW | 24 | 9,008 | 216,192 | 15 | 54,048 | 908.101, 960, 982, 984

Status of proposed information collection: Renewal of forms without changes.

Status of the proposed information collection: Extension of a currently approved collection—Form HUD-50058 and Form HUD-50058 MTW.

Authority: Section 3506 of the Paperwork Reduction Act of 1995, 44 U.S.C. Chapter 35, as amended.

Dated: September 29, 2006.
Merrie Nichols-Dixon,
Acting Deputy Assistant Secretary, Office of Policy, Program and Legislative Initiatives.

[FR Doc. E6-16616 Filed 10-6-06; 8:45 am]

BILLING CODE 4210-67-P